DEPARTMENT OF THE INTERIOR

U.S. Geological Survey

[GX20EB00A181100; OMB Control Number 1028-0101]

Agency Information Collection Activities: The William T. Pecora Award; Application and Nomination Process

AGENCY: U.S. Geological Survey, Interior.

ACTION: Notice of Information Collection; request for comment.

SUMMARY: In accordance with the Paperwork Reduction Act of 1995, we, the U.S. Geological Survey (USGS) are proposing to renew an information collection.

DATES: Interested persons are invited to submit comments on or before December 28, 2020.

ADDRESSES: Send your comments on this information collection request (ICR) by mail to U.S. Geological Survey, Information Collections Officer, 12201 Sunrise Valley Drive MS 159, Reston, VA 20192; or by email to gs-info_collections@usgs.gov. Please reference OMB Control Number 1028-0101 in the subject line of your comments.

FOR FURTHER INFORMATION CONTACT: To request additional information about this ICR, contact Sarah Cook by email at scook@usgs.gov, or by telephone at (703) 648-6136.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The William T. Pecora Award is presented annually to individuals or teams using satellite or aerial remote sensing that make outstanding contributions toward understanding the Earth (land, oceans and air), educating the next generation of scientists, informing decision makers or supporting natural or human-induced disaster response. The award is sponsored jointly by the Department of the Interior (DOI) and the National Aeronautics and Space Administration (NASA).

The award was established in 1974 to honor the memory of Dr. William T. Pecora, former Director of the U.S. Geological Survey and Under Secretary, Department of the Interior. Dr. Pecora was a motivating force behind the establishment of a program for civil remote sensing of the Earth from space. His early vision and support helped establish what we know today as the Landsat satellite program. The purpose of the award is to recognize individuals or groups working in the field of remote sensing of the earth. National and international nominations are accepted from the public and private sector individuals, teams, organizations, and professional societies.

Nomination packages include three sections: (A) Cover Sheet, (B) Summary Statement, and (C) Supplemental Materials. The cover sheet includes professional contact information. The Summary Statement is limited to two pages and describes the nominee's achievements in the scientific and technical remote sensing community, contributions leading to successful practical applications of remote sensing, and/or major breakthroughs in remote sensing science or technology. Nominations may include up to 12 pages of supplemental information such as resume, publications list, and/or letters of endorsement.

Title of Collection: The Pecora Award; Application and Nomination Process.

OMB Control Number: 1028-0101.

Form Number: None.

Type of Review: Extension of a currently approved collection.

Respondents/Affected Public: Individuals; Businesses and other academic and non-profit institutions; State, local and tribal governments.

Total Estimated Number of Annual Respondents: 12.

Total Estimated Number of Annual Responses: 12.

Estimated Completion Time per Response: 6 hours.

Total Estimated Number of Annual Burden Hours: 100.

Respondent's Obligation: Voluntary.

Frequency of Collection: Annually.

Total Estimated Annual Non-hour Burden Cost: There are no “non-hour cost” burdens associated with this IC.

An agency may not conduct or sponsor and a person is not required to respond to a collection of information unless it displays a currently valid OMB control number.

The authority for this action is the Paperwork Reduction Act of 1995 (44 U.S.C. 3501 et seq.).

Timothy Newman,
Program Coordinator, National Land Imaging Program, USGS.

[FR Doc. 2020-23987 Filed 10-28-20; 8:45 am]

BILLING CODE 4338-11-P